DEPARTMENT OF COMMERCE

National Institute of Standards and Technology

National Advanced Spectrum and Communications Test Network: Citizens Broadband Radio Service Sharing Ecosystem Assessment

AGENCY: National Institute of Standards and Technology, Department of Commerce.

ACTION: Announcement of meeting.

SUMMARY: The National Advanced Spectrum and Communications Test Network (NASCTN) is hosting a public meeting on NASCTN's next project, the `Citizens Broadband Radio Service (CBRS) Sharing Ecosystem Assessment, on July 12, 2022 at 12:00 p.m.-1:30 p.m. Mountain Daylight Time. The purpose of this meeting is to bring together federal, industry, and academic stakeholders to disseminate information about NASCTN's next project.

DATES: The NASCTN meeting on the CBRS Sharing Ecosystem Assessment will take place on July 12, 2022 at 12:00 p.m.-1:30 p.m. Mountain Daylight Time.

ADDRESSES: The meeting will be held via web conference. For instructions on how to participate in the meeting, please see the SUPPLEMENTARY INFORMATION section of this notice.

FOR FURTHER INFORMATION CONTACT: Matt Briel at matthew.briel@nist.gov or 303-908-2747.

SUPPLEMENTARY INFORMATION: The National Advanced Spectrum and Communications Test Network (NASCTN) is hosting a public meeting on the CBRS Sharing Ecosystem Assessment project on July 12, 2022 at 12:00 p.m.-1:30 p.m. MDT. The purpose of this meeting is to bring together federal, industry, and academic stakeholders to disseminate information about NASCTN's next project.

NASCTN's next project, the CBRS Sharing Ecosystem Assessment, seeks to provide data-driven insight into the CBRS sharing ecosystem's effectiveness between commercial and DoD radar systems, and to track changes in the spectrum environment over time. Individuals and representatives of organizations who would like to ask questions or offer suggestions related to the project are invited to request a place on the agenda.

Approximately fifteen minutes will be reserved for public comments and speaking times will be assigned on a first-come, first-served basis. Public comments can be provided via email or by web conference attendance. The amount of time per speaker will be determined by the number of requests received. All those wishing to speak must submit their request by email to matthew.briel@nist.gov by 5:00 p.m. Mountain Daylight Time, July 8, 2022. Speakers who wish to expand upon their oral statements, those who wish to speak but cannot be accommodated on the agenda, and those who are unable to attend are invited to submit written statements electronically by email to matthew.briel@nist.gov.

Anyone wishing to attend this meeting via web conference must register by 5:00 p.m. Mountain Daylight Time, July 8, 2022. Please submit your full name, email address, and phone number to Matt Briel at matthew.briel@nist.gov.

Authority: 15 U.S.C. 272.

Alicia Chambers,
NIST Executive Secretariat.

[FR Doc. 2022-14164 Filed 6-30-22; 8:45 am]

BILLING CODE 3510-13-P